DEPARTMENT OF DEFENSE

Department of the Navy

Information on Surplus Land at a Military Installation Designated for Disposal: Naval Air Station Alameda, Alameda, California

AGENCY: Department of the Navy, DoD.

ACTION: Notice.

SUMMARY: This notice provides information on withdrawal of surplus property at Naval Air Station Alameda, Alameda, California.

FOR FURTHER INFORMATION CONTACT: Ms. Laura Duchnak, Director, Naval Facilities Engineering Command, Base Realignment and Closure Program Management Office, 1455 Frazee Road, Suite 900, San Diego, CA 92108-4310, telephone 619-532-0992; or Mr. David H. Hellman, Deputy Director, Base Realignment and Closure Program Management Office, 720 Kennon Street SE., Suite 320, Washington Navy Yard, DC 20374, telephone 202-685-8373.

SUPPLEMENTARY INFORMATION: In 1993, Naval Air Station Alameda located in Alameda, California was designated for closure pursuant to the Defense Base Closure and Realignment Act of 1990, Public Law 101-510, as amended (the Act). On March 13, 1995, the Department of the Navy published a Notice in the Federal Register (60 FR 13413) that land and facilities at this installation were declared surplus to the needs of the Federal Government. Land and facilities previously reported as surplus are now required by the Federal Government to satisfy Department of Veterans Affairs requirements in the San Francisco Bay Area.

Notice of Surplus Property. Pursuant to paragraph (7)(B) of Section 2905(b) of the Act, as amended by the Base Closure Community Redevelopment and Homeless Assistance Act of 1994, the following information regarding the withdrawal of previously reported surplus property at Naval Air Station Alameda, Alameda, California is provided.

Withdrawn Property Description. The surplus determination for the following land and facilities at Naval Air Station Alameda, Alameda, California, is withdrawn.

a. Land. Approximately 74 acres of improved fee simple land located within Alameda County and the City of Alameda.

b. Buildings. The following is a summary of the buildings and other improvements located on the above-described land that will also be withdrawn.

(1) Operations buildings (2 structures). Comments: Approximately 7,032 square feet.

(2) Storage facilities (7 structures). Comments: Approximately 11,020 square feet. Includes ammunition, general, and hazardous materials storage facilities.

(3) Utility structures (1 structure). Comments: Approximately 100 square feet. Includes a sewage pumping station.

(4) Runway infrastructure. Comments: Approximately 20 acres. Includes Runway 7-25, runway lighting, taxiways.

Dated: April 8, 2013.
C.K. Chiappetta,
Lieutenant Commander, Office of the Judge Advocate General, U.S. Navy, Federal Register Liaison Officer.

[FR Doc. 2013-08916 Filed 4-15-13; 8:45 am]

BILLING CODE 3810-FF-P